SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 23, 2009.

ADDRESSES: Send all comments regarding whether this information collection is necessary for the proper performance of the function of the agency, whether the burden estimates are accurate, and if there are ways to minimize the estimated burden and enhance the quality of the collection, to Nancy Sternberg, Program Manager, Program Gateway Program, Office of the Chief Information Officer, Small Business Administration, 409 3rd Street, 4th Floor, Washington, DC 20416.

FOR FURTHER INFORMATION CONTACT: Nancy Sternberg, Program Manager, Program Gateway Program, Office of the Chief Information Officer, 202-205-6285, nancy.sternberg@sba.gov; Curtis B. Rich, Management Analyst, 202-205-7030 curtis.rich@sba.gov.

SUPPLEMENTARY INFORMATION: Customer feedback is critical to developing Web products and marketing materials that meet the needs of the small business community. This generic information collection request encompasses several data collection activities that will help SBA obtain information necessary to plan and deliver information and services to the public more efficiently and effectively.

Title: “Small Business Customer Feedback.”

Description of Respondents: Potential and Current Small and Medium-seized Business Owners.

Form Number: N/A.

Annual Responses: 3,840.

Annual Burden: 842.

Jacqueline White,
Chief, Administrative Information Branch,

[FR Doc. E9-1044 Filed 1-16-09; 8:45 am]

BILLING CODE 8025-01-P